DEPARTMENT OF AGRICULTURE

Forest Service

Winschell Dugway Motorized Trail Project; Caribou-Targhee National Forest, Idaho

AGENCY: Forest Service, USDA.

ACTION: Notice of intent to prepare an environmental impact statement.

SUMMARY: The Forest Service intends to prepare an environmental impact statement to analyze and disclose the environmental effects of constructing a motorized trail from Morgan Meadows to Caribou City on the Soda Springs Ranger District of the Caribou-Targhee National Forest.

DATES: Comments concerning the scope of the analysis must be received by March 18, 2016. The draft environmental impact statement is expected June, 2016 and the final environmental impact statement is expected October, 2016.

ADDRESSES: Send written comments to Garth Smelser, Forest Supervisor, Caribou-Targhee National Forest, 1405 Hollipark Drive, Idaho Falls, ID 83402. Comments may also be sent via email to comments-intermtn-caribou-targhee@fs.fed.us, or via facsimile to 208-557-5827.

FOR FURTHER INFORMATION CONTACT: Jessica Taylor, Forest NEPA Coordinator at 208-557-5837.

Individuals who use telecommunication devices for the deaf (TDD) may call the Federal Information Relay Service (FIRS) at 1-800-877-8339 between 8 a.m. and 8 p.m., Eastern Time, Monday through Friday.

Purpose and Need for Action

The purpose for this project is to respond to outside public interest to provide a motorized trail opportunity from Morgan Meadows to Caribou City allowing forest visitors to experience the historic mining history of the area.

Proposed Action

The proposed action would establish a motorized ATV trail from Morgan Meadows to Caribou City. The proposed action comes from planning efforts that have occurred since 2007. This alternative includes constructing approximately 2.2 miles of new trail and managing the new trail as a motorized ATV trail. Further, the proposed action calls for reconstructing approximately 4.85 miles of existing trails, exploratory mining roads and abandoned roads (see Alternative 2 Map) to implement the Winschell Dugway Motorized Trail project.

The proposed action addresses the trail corridor in the following specific segments:

1. Use .75 mile of ATV Trail #449, from Morgan Meadows to Tincup Creek.

2. Reconstruction of 1.5 miles of trail from Tincup Creek to the saddle west of Jackknife Basin.

3. Construct 1.5 miles along the ridgeline west of Jackknife Basin to an old reclaimed gold exploratory road.

4. Use of old reclaimed gold exploratory road for approximately .6 mile.

5. Construction of .1 mile down into the Bilk Creek drainage.

6. Use of abandoned mining road that crosses Bilk Creek and continues to ridgeline between Anderson and Bilk Creeks.

7. Construction of .5 mile on ridgeline in the Anderson Creek drainage back into Bilk Creek.

8. Use of old roadbed for .2 mile in Bilk Creek.

9. Construction of .1 mile of route that would tie into a well-used road that takes the trail to Caribou City.

The route would require the installation of ATV bridges at four stream crossings; on Bilk Creek (2), Tincup Creek (1) and on an unnamed tributary to Tincup Creek (1). A cooperative agreement with Bonneville County Parks and Recreation and Idaho Department of Parks and Recreation would be created, specifying management and maintenance responsibilities of all parties.

Possible Alternatives

Alternatives currently being considered for the Winschell Dugway Motorized Trail project include: (a) No action, and (b) proposed action as outlined above.

Responsible Official

Forest Supervisor, Garth Smelser, is the responsible official.

Nature of Decision To Be Made

The decision to be made is whether to implement the proposed action as described above, or to meet the purpose and need for action through some other combination of activities as a result of the scoping process, or to take no action at this time.

Scoping Process

This notice of intent initiates the scoping process, which guides the development of the environmental impact statement.

The purpose of this comment period is to provide an opportunity for the public to provide early and meaningful participation on a proposed action prior to a decision being made by the Responsible Official. Per 36 CFR 218, only those who provide specific, written comments regarding the proposed project or activity will be eligible to file an objection.

Comments received in response to this solicitation, including names and addresses of those who comment, will be part of the public record for this proposed action. Comments submitted anonymously will be accepted and considered, however.

Dated: February 10, 2016.
Garth Smelser,
Forest Supervisor, Caribou-Targhee National Forest.

[FR Doc. 2016-03250 Filed 2-16-16; 8:45 am]

BILLING CODE 3411-15-P